ENVIRONMENTAL PROTECTION AGENCY

[FRL-7501-6]

Proposed Reissuance of a General NPDES Permit for Facilities Related to Oil and Gas Extraction on the North Slope of the Brooks Range, AK (Permit Number AKG-33-0000 Formerly AKG-31-0000)

AGENCY: Environmental Protection Agency (EPA).

ACTION: Notice of proposed reissuance of a general permit.

SUMMARY: On April 10, 2002, the general permit regulating activities related to the extraction of oil and gas on the North Slope of the Brooks Range in the state of Alaska expired. This proposed reissuance of a general permit is intended to regulate activities related to the extraction of oil and gas on the North Slope of the Brooks Range in the state of Alaska. The proposed general permit would cover the same discharges as the previous general permit: domestic wastewater discharges, gravel pit dewatering, construction dewatering, and hydrostatic test water. The proposed reissuance also includes two new outfall designations for the discharge of storm water from industrial activities and discharges of treated effluent from mobile spill response units. When issued, the proposed permit will establish effluent limitations, standards, prohibitions and other conditions on discharges from covered facilities. These conditions are based on existing national effluent guidelines, the state of Alaska's Water Quality Standards and material contained in the administrative record. A description of the basis for the conditions and requirements of the proposed general permit is given in the fact sheet. This is also notice of EPA's issuance of a Finding of No Significant Impact (FNSI) coverage under this GP for the new source facility, BP Exploration (Alaska), Inc.’s Badami facility covered by NPDES permit AKG-31-0001 which will be reauthorized with the number AKG-33-0001.

DATES: Interested persons may submit comments on the proposed reissuance of the general permit to EPA, Region 10 at the address below. Comments must be postmarked by July 7, 2003.

ADDRESSES: Comments on the proposed general permit reissuance should be sent to the attention of the Director, Office of Water, 1200 Sixth Avenue OW-130, Seattle, Washington 98101. Comments may also be submitted electronically to godsey.cindi@epa.gov.

FOR FURTHER INFORMATION CONTACT: Copies of the proposed general permit and Fact Sheet are available upon request. Requests may be made to Audrey Washington at (206) 553-0523 or to Cindi Godsey at (907) 271-6561. Requests may also be electronically mailed to: washington.audrey@epa.gov or godsey.cindi@epa.gov.

The proposed general permit and Fact Sheet may also be found on the EPA Region 10 Web site at www.epa.gov/r10earth/water.htm then click on NPDES permits under Programs and draft permits under EPA Region 10 Information.

SUPPLEMENTARY INFORMATION: Executive Order 12866: The Office of Management and Budget has exempted this action from the review requirements of Executive Order 12866 pursuant to section 6 of that order.

Regulatory Flexibility Act: After review of the facts presented in the notice printed above, I hereby certify pursuant to the provision of 5 U.S.C. 605(b) that this proposed general NPDES permit will not have a significant impact on a substantial number of small entities. Moreover, the permit reduces a significant administrative burden on regulated sources.

Dated: May 12, 2003.
Randall F. Smith,
Director, Office of Water, Region 10.

[FR Doc. 03-12764 Filed 5-20-03; 8:45 am]

BILLING CODE 6560-50-P